DEPARTMENT OF COMMERCE

National Oceanic and Atmospheric Administration

[RTID 0648-XC280]

Pacific Fishery Management Council; Public Meeting

AGENCY: National Marine Fisheries Service (NMFS), National Oceanic and Atmospheric Administration (NOAA), Commerce.

ACTION: Notice of a public meeting.

SUMMARY: The Pacific Fishery Management Council's (Pacific Council) Ecosystem Subcommittee of the Scientific and Statistical Committee (SSC) will hold an online meeting to review new analyses conducted by the NMFS California Current Integrated Ecosystem Assessment Team that may potentially inform future annual reports to the Pacific Council on the state of the California Current Ecosystem.

DATES: The online meeting will be held Friday, September 16, 2022, from 8:30 a.m. to 5 p.m. Pacific Daylight Time (PDT).

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: John DeVore, Staff Officer, Pacific Council; telephone: (503) 820-2413.

SUPPLEMENTARY INFORMATION: The SSC's Ecosystem Subcommittee will review analyses conducted by the NMFS California Current Integrated Ecosystem Assessment Team. Specifically, the SSC Ecosystem Subcommittee will review the following two items: (1) strategic review of the salmon indicator portfolio, and (2) development of the climate change appendix. Members of the SSC's Salmon Subcommittee, the Salmon Technical Team, and the Salmon Advisory Subpanel are encouraged to attend given the focus on environmental drivers informing future salmon management decisions.

No management actions will be decided by the SSC's Ecosystem Subcommittee. The SSC Ecosystem Subcommittee members' role will be the development of recommendations and a report for consideration by the SSC and the Pacific Council at their March 2023 meeting in Seattle, WA.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: August 16, 2022.
Rey Israel Marquez,
Acting Deputy Director, Office of Sustainable Fisheries, National Marine Fisheries Service.

[FR Doc. 2022-17892 Filed 8-18-22; 8:45 am]

BILLING CODE 3510-22-P